CHEMICAL SAFETY AND HAZARD INVESTIGATION BOARD

Sunshine Act Meeting

TIME AND DATE: January 28, 2016, 6:00 p.m. CST

PLACE: Hilton Waco—113 S. University Parks Dr., Waco, TX 76701

STATUS: Open to the public.

MATTERS TO BE CONSIDERED: Pursuant to the Government in the Sunshine Act, 5 U.S.C. 552b, the Chemical Safety and Hazard Investigation Board (CSB) will convene a public meeting on January 28, 2016, starting at 6:00 p.m. CST at the Hilton Waco, 113 S. University Parks Dr., Waco, TX 76701. The Board will discuss the investigation into the April 17, 2013, ammonium nitrate explosion at the West Fertilizer facility that claimed the lives of twelve volunteer firefighters and at least two members of the public. CSB staff will present the final investigation report and proposed recommendations for the Board's review and approval. The Board will hear public comments on the investigation. CSB staff will also present to the Board details of a proposed study on land use planning.

Additional Information

The meeting is free and open to the public. If you require a translator or interpreter, please notify the individual listed below as the “Contact Person for Further Information,” at least three business days prior to the meeting.

This meeting will be webcast for those who cannot attend in person. Please visit www.csb.gov for access to the live webcast.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to three minutes or less, but commenters may submit written statements for the record.

Contact Person for Further Information

Shauna Lawhorne, Public Affairs Specialist, public@csb.gov or (202) 384-2839. Further information about this public meeting can be found on the CSB Web site at: www.csb.gov.

Dated: January 19, 2016.
Kara A. Wenzel,
Acting General Counsel, Chemical Safety and Hazard Investigation Board.

[FR Doc. 2016-01334 Filed 1-20-16; 11:15 am]

BILLING CODE 6350-01-P